DEPARTMENT OF COMMERCE

International Trade Administration

[A-557-815]

Welded Stainless Pressure Pipe From Malaysia: Final Determination of Sales at Less Than Fair Value and Final Affirmative Determination of Critical Circumstances, in Part; 2012-2013

AGENCY: Enforcement and Compliance, International Trade Administration, Department of Commerce.

SUMMARY: The Department of Commerce (“Department”) determines that welded stainless pressure pipe (“WSPP”) from Malaysia is being, or is likely to be, sold in the United States at less than fair value (“LTFV”), as provided in section 735 of the Tariff Act of 1930, as amended (“the Act”). The final weighted-average dumping margins of sales at LTFV are shown in the “Final Determination” section of this notice.

DATES: Effective Date: May 30, 2014.

FOR FURTHER INFORMATION CONTACT: Charles Riggle or Erin Kearney, AD/CVD Operations, Office IV, Enforcement and Compliance, International Trade Administration, U.S. Department of Commerce, 14th Street and Constitution Avenue NW., Washington, DC 20230; telephone: (202) 482-0650 or (202) 482-0167, respectively.

SUPPLEMENTARY INFORMATION:

Background

The Department published its Preliminary Determination on January 7, 2014.¹ On January 28, 2014, we received a case brief from Bristol Metals, LLC, Felker Brothers Corp., and Outokumpu Stainless Pipe, Inc. (“Petitioners”).² We did not receive case or rebuttal briefs from any other interested party.

¹ See Welded Stainless Pressure Pipe from Malaysia: Preliminary Determination of Sales at Less Than Fair Value, Affirmative Preliminary Determination of Critical Circumstances, in Part, and Postponement of Final Determination, 79 FR 808 (January 7, 2014) (“Preliminary Determination”).

² See submission from Petitioners, “Welded Stainless Pressure Pipe from Malaysia: Petitioners' Case Brief,” dated January 28, 2014.

Period of Investigation

The period of investigation (“POI”) is April 1, 2012, through March 31, 2013.

Scope of the Investigation

The merchandise covered by this investigation is circular welded austenitic stainless pressure pipe not greater than 14 inches in outside diameter. For purposes of this investigation, references to size are in nominal inches and include all products within tolerances allowed by pipe specifications. This merchandise includes, but is not limited to, the American Society for Testing and Materials (ASTM) A-312 or ASTM A-778 specifications, or comparable domestic or foreign specifications. ASTM A-358 products are only included when they are produced to meet ASTM A-312 or ASTM A-778 specifications, or comparable domestic or foreign specifications.

Excluded from the scope are: (1) Welded stainless mechanical tubing, meeting ASTM A-554 or comparable domestic or foreign specifications; (2) boiler, heat exchanger, superheater, refining furnace, feedwater heater, and condenser tubing, meeting ASTM A-249, ASTM A-688 or comparable domestic or foreign specifications; and (3) specialized tubing, meeting ASTM A269, ASTM A-270 or comparable domestic or foreign specifications.

The subject imports are normally classified in subheadings 7306.40.5005, 7306.40.5040, 7306.40.5062, 7306.40.5064, and 7306.40.5085 of the Harmonized Tariff Schedule of the United States (HTSUS). They may also enter under HTSUS subheadings 7306.40.1010, 7306.40.1015, 7306.40.5042, 7306.40.5044, 7306.40.5080, and 7306.40.5090. The HTSUS subheadings are provided for convenience and customs purposes only; the written description of the scope of this investigation is dispositive.

Verification

The Department did not verify any of the three mandatory respondents in this investigation because all of the mandatory respondents ceased participating in the investigation prior to issuance of the Preliminary Determination.

Analysis of Comments Received

All issues raised in the case brief for this investigation are addressed in the Issues and Decision Memorandum.³ A list of the issues which parties raised and to which we responded in the Issues and Decision Memorandum is attached to this notice as an Appendix. The Issues and Decision Memorandum is a public document and is on file electronically via Enforcement and Compliance's Antidumping and Countervailing Duty Centralized Electronic Service System (“IA ACCESS”). Access to IA ACCESS is available to registered users at http://iaaccess.trade.gov and is available to all parties in the Central Records Unit, room 7046 of the main Department of Commerce building. In addition, a complete version of the Issues and Decision Memorandum can be accessed directly at http://enforcement.trade.gov/frn. The paper copy and electronic version of the Issues and Decision Memorandum are identical in content.

³ See Memorandum from Christian Marsh, Deputy Assistant Secretary for Antidumping and Countervailing Duty Operations, to Paul Piquado, Assistant Secretary for Enforcement and Compliance, “Issues and Decision Memorandum for the Final Determination in the Antidumping Duty Investigation of Welded Stainless Pressure Pipe from Malaysia,” dated May 22, 2014 (“Issues and Decision Memorandum”).

Final Determination

For the final determination, we made no changes to the Preliminary Determination. Therefore, we continue to determine that the following margins exist for the following entities for the POI:

Exporter or producer | Weighted-average dumping margin (percent)
Superinox Pipe Industry Sdn. Bhd./Superinox International Sdn. Bhd | 167.11
Kanzen Tetsu Sdn. Bhd | 167.11
Pantech Stainless & Alloy Industries Sdn. Bhd | 167.11
All Others | 22.70

Critical Circumstances

We made no changes to our critical circumstances analysis announced in the Preliminary Determination.⁴ Thus, pursuant to section 735(a)(3) of the Act, we continue to find that critical circumstances exist with respect to imports of WSPP from Malaysia from mandatory respondents Kanzen Tetsu Sdn. Bhd. (“Kanzen”), Pantech Stainless & Alloy Industries Sdn. Bhd. (“Pantech”), and Superinox Pipe Industry Sdn. Bhd./Superinox International Sdn. Bhd. (“Superinox”). We continue to find that critical circumstances do not exist with respect to imports of WSPP from exporters or producers in the “all others” group.

⁴ Preliminary Determination, 79 FR at 810.

Disclosure

We disclosed the calculations used to determine the adverse facts available rate in the Preliminary Determination to parties in this proceeding, and we made no changes since the Preliminary Determination. Thus, no additional disclosure of calculations is necessary.

Continuation of Suspension of Liquidation

As noted above, the Department found that critical circumstances exist with respect to imports of the merchandise under consideration from Superinox, Kanzen, and Pantech. Therefore, in accordance with section 735(c)(4) of the Act, we will instruct U.S. Customs and Border Protection (“CBP”) to continue to suspend liquidation of all entries of WSPP from Malaysia from Superinox, Kanzen, and Pantech that were entered, or withdrawn from warehouse, for consumption on or after the date 90 days prior to publication of the Preliminary Determination in the Federal Register and require a cash deposit for such entries as noted below. Because we did not find that critical circumstances exist with respect to exporters or producers in the “all others” group, in accordance with section 735(c)(1) of the Act, we will instruct CBP to continue to suspend liquidation of all other entries of WSPP from Malaysia entered, or withdrawn from warehouse, for consumption on or after the date of publication of the Preliminary Determination in the Federal Register. These suspension of liquidation instructions will remain in effect until further notice.

Pursuant to section 735(c)(1) of the Act and 19 CFR 351.210(d), the Department will instruct CBP to require cash deposits ⁵ equal to the weighted-average dumping margins indicated in the table above. These cash deposit instructions will remain in effect until further notice.

⁵ See Modification of Regulations Regarding the Practice of Accepting Bonds During the Provisional Measures Period in Antidumping and Countervailing Duty Investigations, 76 FR 61042 (October 3, 2011).

International Trade Commission (“ITC”) Notification

In accordance with section 735(d) of the Act, we will notify the ITC of our final affirmative determination of sales at LTFV. Because the final determination in this proceeding is affirmative, in accordance with section 735(b)(2) of the Act, the ITC will make its final determination as to whether the domestic industry in the United States is materially injured, or threatened with material injury, by reason of imports of WSPP from Malaysia no later than 45 days after our final determination. If the ITC determines that material injury or threat of material injury does not exist, the proceeding will be terminated and all securities posted will be refunded or canceled. If the ITC determines that such injury does exist, the Department will issue an antidumping duty order directing CBP to assess antidumping duties on all imports of the merchandise under investigation entered, or withdrawn from warehouse, for consumption on or after the effective date of the suspension of liquidation.

Notification Regarding Administrative Protective Orders (“APO”)

This notice also serves as a reminder to the parties subject to APO of their responsibility concerning the disposition of proprietary information disclosed under APO in accordance with 19 CFR 351.305. Timely written notification of return or destruction of APO materials or conversion to judicial protective order is hereby requested. Failure to comply with the regulations and the terms of an APO is a sanctionable violation.

This determination and notice are issued and published in accordance with sections 735(d) and 777(i)(1) of the Act and 19 CFR 351.210(c).

Dated: May 22, 2014.
Paul Piquado,
Assistant Secretary for Enforcement and Compliance.

Appendix—List of Topics Discussed in the Issues and Decision Memorandum

I. Summary

II. Background

III. Scope of the Investigation

IV. Discussion of the Issues

Comment 1: Determination of the All Others Rate

V. Recommendation

[FR Doc. 2014-12586 Filed 5-29-14; 8:45 am]

BILLING CODE 3510-DS-P